DEPARTMENT OF HOMELAND SECURITY

Federal Emergency Management Agency

[Docket ID FEMA-2016-0002; Internal Agency Docket No. FEMA-B-1619]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: April 12, 2016.
Roy E. Wright,
Deputy Associate Administrator for Insurance and Mitigation, Department of Homeland Security, Federal Emergency Management Agency.

State and county | Location and case No. | Chief executive officer of community | Community map repository | Online location of letter of map revision | Effective date of modification | Community No.
Connecticut: New Haven | Town of Madison (15-01-1621P) | Mr. Fillmore McPherson, First Selectman, Town of Madison, Town Office, 8 Campus Drive, Madison, CT 06443 | Town Offices, 8 Campus Drive, Madison, CT 06443 | http://www.msc.fema.gov/lomc | July 8, 2016 | 090079
Idaho: Ada | Unincorporated areas of Ada County (16-10-0348X) | Commissioner Dave Case, Chairman, Board of Commissioners, Ada County, 200 West Front Street, 3rd Floor, Boise, ID 83702 | Ada County Courthouse, 200 West Front Street, Boise, ID 83702 | http://www.msc.fema.gov/lomc | June 2, 2016 | 160001
Illinois:
McHenry | Village of Fox River Grove (15-05-7970P) | The Honorable Robert J. Nunamaker, Village President, Village of Fox River Grove, 305 Illinois Street, Fox River Grove, IL 60021 | Village Hall, 305 Illinois Street, Fox River Grove, IL 60021 | http://www.msc.fema.gov/lomc | July 18, 2016 | 170477
McHenry | Unincorporated areas of McHenry County (15-05-7970P) | The Honorable Joseph Gottemoller, Chairman, McHenry County Board, County Government Center, 2200 North Seminary Avenue, Woodstock, IL 60098 | County Government Center, 2200 North Seminary Avenue, Woodstock, IL 60098 | http://www.msc.fema.gov/lomc | July 18, 2016 | 170732
Iowa:
Johnson | City of Coralville (15-07-1807P) | The Honorable John Lundell, Mayor, City of Coralville, 1512 7th Street, P.O. Box 5127, Coralville, IA 52241 | City Hall, 1512 7th Street, Coralville, IA 52241 | http://www.msc.fema.gov/lomc | June 24, 2016 | 190169
Johnson | Unincorporated Areas of Johnson County (15-07-1807P) | Mr. Rod Sullivan, Chairperson, Board of Supervisors, Johnson County Administration Building, 913 South Dubuque Street, Suite 204, Iowa City, IA 52240 | Johnson County, Planning and Zoning, 913 South Dubuque Street, Iowa City, IA 52240 | http://www.msc.fema.gov/lomc | June 24, 2016 | 190882
Kansas: Johnson | City of Olathe (16-07-0379P) | The Honorable Michael Copeland, Mayor, City of Olathe, P.O. Box 768, Olathe, KS 66051 | City Hall, Olathe Planning Office, 100 West Santa Fe Drive, Olathe, KS 66061 | http://www.msc.fema.gov/lomc | July 15, 2016 | 200173
Minnesota:
Anoka | City of Blaine (15-05-7513P) | The Honorable Tom Ryan, Mayor, City of Blaine, 10801 Town Square Drive Northeast, Blaine, MN 55449 | City Hall Offices, 10801 Town Square Drive Northeast, Blaine, MN 55449 | http://www.msc.fema.gov/lomc | July 1, 2016 | 270007
Clay | City of Moorhead (16-05-0672P) | The Honorable Del Rae Williams, Mayor, City of Moorhead, Moorhead City Hall, 500 Center Avenue, Moorhead, MN 56561 | City Hall, 500 Center Avenue, Moorhead, MN 56561 | http://www.msc.fema.gov/lomc | June 10, 2016 | 275244
Missouri:
Jasper | City of Carthage (15-07-1541P) | The Honorable J. Michael Harris, Mayor, City of Carthage, 326 Grant Street, Carthage, MO 64836 | City Hall, 326 Grant Street, Carthage, MO 64836 | http://www.msc.fema.gov/lomc | July 8, 2016 | 290181
Jasper | Unincorporated areas of Jasper County (15-07-1541P) | Mr. John Bartosh, Jasper County Commissioner, 302 South Main Street, Room 101, Carthage, MO 64836 | Jasper County Courthouse, 302 South Main Street, Carthage, MO 64836 | http://www.msc.fema.gov/lomc | July 8, 2016 | 290807
New York: Dutchess | Town of Wappinger (16-02-0187P) | The Honorable Lori A. Jiava, Supervisor, Town of Wappinger, Town Hall, 20 Middlebush Road, Wappinger Falls, NY 12590 | Town Hall, 20 Middlebush Road, Wappinger Falls, NY 12590 | http://www.msc.fema.gov/lomc | September 2, 2016 | 361387
Oregon:
Lane | City of Creswell (16-10-0415X) | The Honorable Dave Stram, Mayor, City of Creswell, 13 South 1st Street, P.O. Box 276, Creswell, OR 97426 | City Hall, 13 South 1st Street, Creswell, OR 97426 | http://www.msc.fema.gov/lomc | July 5, 2016 | 410121
Lane | Unincorporated Areas of Lane County (16-10-0415X) | The Honorable Faye Stewart, Commissioner, East Lane County, Lane County Public Service Building, 125 East 8th Street, Eugene, OR 97401 | Lane County Planning Department, Public Service Building, 125 East 8th Street, Eugene, OR 97401 | http://www.msc.fema.gov/lomc | July 5, 2016 | 415591
Tennessee: Hamblen | City of Morristown (15-04-8338P) | The Honorable Gary Chesney, Mayor, City of Morristown, 100 West First North Street, P.O. Box 1499, Morristown, TN 37816 | County Courthouse, 511 West Second North Street, Morristown, TN 37814 | http://www.msc.fema.gov/lomc | May 27, 2016 | 470070
Wisconsin: Eau Claire | Unincorporated areas of Eau Claire (15-05-5833P) | Mr. Gregg Moore, County Board Chair, Eau Claire County, 721 Oxford Avenue, Eau Claire, WI 54703 | County Courthouse, 721 Oxford Avenue, Eau Claire, WI 54703 | http://www.msc.fema.gov/lomc | July 5, 2016 | 555552

[FR Doc. 2016-09816 Filed 4-26-16; 8:45 am]

BILLING CODE 9110-12-P